DEPARTMENT OF TRANSPORTATION

National Highway Traffic Safety Administration

[Docket No. NHTSA 2005-20274; Notice 2]

Workhorse Custom Chassis, Grant of Petition for Decision of Inconsequential Noncompliance

Workhorse Custom Chassis (Workhorse) has determined that certain incomplete motor home chassis it produced in 2000 through 2004 do not comply with S3.1.4.1 of 49 CFR 571.102, Federal Motor Vehicle Safety Standard (FMVSS) No. 102, “Transmission shift lever sequence, starter interlock, and transmission braking effect.” Pursuant to 49 U.S.C. 30118(d) and 30120(h), Workhorse has petitioned for a determination that this noncompliance is inconsequential to motor vehicle safety and has filed an appropriate report pursuant to 49 CFR part 573, “Defect and Noncompliance Reports.” Notice of receipt of a petition was published, with a 30-day comment period, on March 2, 2005, in the Federal Register (70 FR 10164). NHTSA received no comments.

Affected are a total of approximately 42,524 incomplete motor home chassis built between July 2000 and December 31, 2004. S3.1.4.1 of FMVSS No. 102 requires that

If the transmission shift lever sequence includes a park position, identification of shift lever positions * * * shall be displayed in view of the driver whenever any of the following conditions exist: (a) The ignition is in a position where the transmission can be shifted. (b) The transmission is not in park.

Workhorse described its noncompliance as follows:

In these vehicles when the ignition key is in the “OFF” position, the selected gear position is not displayed. “OFF” is a position not displayed, but located between lock and run. The gear selector lever can be moved while the ignition switch is in “OFF.”

Workhorse believes that this noncompliance is inconsequential to motor vehicle safety and that no corrective action is warranted. Workhorse stated that:

[T]he vehicles will be in compliance with FMVSS No. 102 during normal ignition activation and vehicle operation. Workhorse believes that the purpose of the rule is to provide the driver with transmission position information for the vehicle conditions where such information can reduce the likelihood of shifting errors. This occurs primarily when the engine is running, and Workhorse's PRNDL is always visible when the engine is running.

Should the shift lever be in any position other than park or neutral, the ignition will not start. * * * Should the Workhorse vehicle be in neutral at the time the ignition is turned to start, the display will immediately come on and be visible to the driver.

There are a number of safeguards to preclude the driver from leaving the vehicle with the vehicle in a position other than in the park position. First, if the driver should attempt to remove the key, the driver will discover that the vehicle is not in park because the key may not be removed. * * * If the driver were to attempt to leave the vehicle without removing the key, the audible warning required by FMVSS No. 114 would immediately sound reminding the driver that the key is still in the vehicle.

Workhorse stated that this situation is substantially the same as for two petitions which NHTSA granted, one from General Motors (58 FR 33296, June 16, 1993) and the second from Nissan Motors (64 FR 38701, June 19, 1999). Workhorse said, “In both of those cases, the PRNDL display would not be illuminated if the transmission was left in a position other than ‘park’ when the ignition key was turned to ‘OFF.’ ”

Workhorse stated that it has no customer complaints or accident reports related to the noncompliance.

NHTSA agrees with Workhorse that the noncompliance is inconsequential to motor vehicle safety. As the agency noted in proposing the current version of the standard (49 FR 32409, August 25, 1988), the purpose of the display requirement is to “provide the driver with transmission position information for the vehicle conditions where such information can reduce the likelihood of shifting errors.” In all but the rarest circumstances, the primary function of the transmission display is to inform the driver of gear selection and relative position of the gears while the engine is running. In this case, the selected gear position and PRNDL display are always visible when the engine is running. Therefore, as Workhorse stated, the vehicles will be in compliance with FMVSS No. 102 during normal ignition activation and vehicle operation.

Workhorse is correct that the two petitions it cited, from Nissan and General Motors, were granted by NHTSA based on this rationale. The Workhorse vehicles at issue here comply with all other requirements of FMVSS No. 102. Workhorse has corrected the problem.

In consideration of the foregoing, NHTSA has decided that the petitioner has met its burden of persuasion that the noncompliance described is inconsequential to motor vehicle safety. Accordingly, Workhorse's petition is granted and the petitioner is exempted from the obligation of providing notification of, and a remedy for, the noncompliance.

Authority: 49 U.S.C. 30118, 30120; delegations of authority at CFR 1.50 and 501.8.

Issued on: April 20, 2005.
Ronald L. Medford,
Senior Associate Administrator for Vehicle Safety.

[FR Doc. 05-8264 Filed 4-25-05; 8:45 am]

BILLING CODE 4910-59-P